DEPARTMENT OF COMMERCE

International Trade Administration

Initiation of Antidumping and Countervailing Duty Administrative Reviews

AGENCY: Import Administration, International Trade Administration, Department of Commerce

ACTION: Notice of Initiation of Antidumping and Countervailing Duty Administrative Reviews

SUMMARY: The Department of Commerce (the Department) has received requests to conduct administrative reviews of various antidumping and countervailing duty orders and findings with March anniversary dates. In accordance with the Department's regulations, we are initiating those administrative reviews. The Department also received requests to revoke in part one antidumping duty order and three countervailing duty orders.

DATES: April 28, 2006.

FOR FURTHER INFORMATION CONTACT: Sheila E. Forbes, Office of AD/CVD Operations, Office 4, Import Administration, International Trade Administration, U.S. Department of Commerce, 14th Street and Constitution Avenue, N.W., Washington, D.C. 20230, telephone: (202) 482-4737.

SUPPLEMENTARY INFORMATION:

Background

The Department has received timely requests, in accordance with 19 CFR 351.213(b)(2004), for administrative reviews of various antidumping and countervailing duty orders and findings with March anniversary dates. The Department also received timely

requests to revoke in part the antidumping duty order on Stainless Steel Bar from Germany and to revoke in part the countervailing duty orders on Low Enriched Uranium from Germany, the Netherlands and the United Kingdom. The revocation requests for Low Enriched Uranium from Germany, the Netherlands and the United Kingdom were inadvertently omitted from the initiation notice that published on April 5, 2006 (71 FR 17077).

Initiation of Reviews:

In accordance with section 19 CFR 351.221(c)(1)(i), we are initiating administrative reviews of the following antidumping and countervailing duty orders and findings. We intend to issue the final results of these reviews not later than March 31, 2007.

| Period to be Reviewed
Antidumping Duty Proceedings
BRAZIL: Certain Hot-Rolled Carbon Steel Flat Products
A-351-828 | 3/1/05 - 2/28/06
Companhia Siderurgica Nacional
Companhia Siderurgica de Tubarao
FRANCE: Stainless Steel Bar
A-427-820 | 3/1/05 - 2/28/06
UGITECH, S.A.
GERMANY: Stainless Steel Bar
A-428-830 | 3/1/05 - 2/28/06
BGH Edelstahl Freital GmbH/BGH Edelstahl Lippendorf
GmbH/BGH Edelstahl Lugau GmbH/BGH Edelstahl Siegen GmbH
SPAIN: Stainless Steel Bar
A-469-805 | 3/1/05 - 2/28/06
Sidenor Industrial SL
THE PEOPLE'S REPUBLIC OF CHINA: Certain Tissue Paper Products¹
A-570-894 | 9/21/04 - 2/28/06
AR Printing and Packaging
China National Aero-Technology Import & Export Xiamen Corp.
Foshan Sansico Co., Ltd.
Fujian Naoshan Paper Industry Group Co., Ltd.
Fuzhou Magicpro Gifts Co., Ltd.
Gifiworld Enterprise Co., Ltd.
Guilin Qifeng Paper Co., Ltd.
Goldwing Co., Ltd.
Guangzhou Baxi Printing Products Co., Limited
Kepsco, Inc.
Max Fortune Industrial Limited/Max Fortune (FETDE) Paper Products Co., Ltd.
PT Grafitecindo Ciptaprima
PT Printec Perkasa
PT Printec Perkasa II
PT Sansico Utama
Putian City Chengxiang Qu Li Feng
Putian City Hong Ye Paper Products Co., Ltd.
Samsam Productions Limited
Sansico Asia Pasific Limited
Vietnam Quijiang Paper Co., Ltd.
THE PEOPLE'S REPUBLIC OF CHINA: Glycine²
A-570-836 | 3/1/05 - 2/28/06
Baoding Mantong Fine Chemistry Co., Ltd.
Nantong Dongchang Chemical Industry Corporation
THE PEOPLE'S REPUBLIC OF CHINA: Axes/Adzes
A-570-803 | 2/1/05 - 1/31/06
Shanghai Xinike Trading Company³(*)
THE PEOPLE'S REPUBLIC OF CHINA: Bars/Wedges
A-570-803 | 2/1/05 - 1/31/06
Shanghai Xinike Trading Company*
THE PEOPLE'S REPUBLIC OF CHINA: Hammers/Sledges
A-570-803 | 2/1/05 - 1/31/06
Truper Herramientas S.A. de C.V.⁴
Shanghai Xinike Trading Company*
THE PEOPLE'S REPUBLIC OF CHINA: Picks/Mattocks
A-570-803 | 2/1/05 - 1/31/06
Truper Herramientas S.A. de C.V.⁵
Shanghai Xinike Trading Company*
UNITED KINGDOM: Stainless Steel Bar
A-412-822 | 3/1/05 - 2/28/06
Corus Engineering Steels
Firth Rixson Limited
Countervailing Duty Proceedings
GERMANY: Low Enriched Uranium⁶
C-428-829 | 1/1/05 - 12/31/05
TURKEY: Certain Welded Carbon Steel Standard Pipe
C-489-502 | 1/1/05 - 12/31/05
The Borusan Group/Borusan Mannesmann Boru
Sanayi ve Ticaret A.S./Borusan Istikbal Ticaret T.A.S.
Suspension Agreements
None.
¹ If one of the above-named companies does not qualify for a separate rate, all other exporters of Certain Tissue Paper Products from the People's Republic of China who have not qualified for a separate rate are deemed to be covered by this review as part of the single PRC entity of which the named exporters are a part.
² If one of the above-named companies does not qualify for a separate rate, all other exporters of Glycine from the People's Republic of China who have not qualified for a separate rate are deemed to be covered by this review as part of the single PRC entity of which the named exporters are a part.
³(*) In the initiation notice that published on April 5, 2006 (71 FR 17077), Shanghai Xinike Trading Company was incorrectly initiated as Shanghai Xinke Trading Company for all product categories with respect to the antidumping case on Hand Tools from the PRC (A-570-803). The correct spelling of the company name is listed above.
⁴ Company inadvertently omitted from initiation notice that published on April 5, 2006 (71 FR 17077).
⁵ Company inadvertently omitted from initiation notice that published on April 5, 2006 (71 FR 17077).
⁶ In the initiation notice that published on April 5, 2006 (71 FR 17077), the case number listed for Low Enriched Uranium from Germany was incorrect. The case number listed above is the correct number for that case.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: April 25, 2006.
Thomas F. Futtner,
Acting Office Director, AD/CVD Operations, Office 4, Import Administration.

[FR Doc. E6-6438 Filed 4-27-06; 8:45 am]

BILLING CODE 3510-DS-S